DEPARTMENT OF VETERANS AFFAIRS

38 CFR Part 17

RIN 2900-AP06

Ensuring a Safe Environment for Community Residential Care Residents; Correction

AGENCY: Department of Veterans Affairs.

ACTION: Final rule; correction.

SUMMARY: The Department of Veterans Affairs is correcting a final rule that added to its medical regulations new standards that must be met by a Community Residential Care facility seeking approval by VA that was published in the Federal Register on July 25, 2017.

DATES: The correction is effective July 31, 2017.

FOR FURTHER INFORMATION CONTACT: Dr. Richard Allman, Chief Consultant, Geriatrics and Extended Care Services (10P4G), Veterans Health Administration, Department of Veterans Affairs, 810 Vermont Ave. NW., Washington, DC 20420, (202) 461-6750. (This is not a toll-free number.)

SUPPLEMENTARY INFORMATION: VA is correcting its final rule that added to its medical regulations new standards that must be met by a Community Residential Care facility seeking approval by VA.

In FR Doc. 17-15519 appearing on page 34408 in the Federal Register of Tuesday, July 25, 2017, the following corrections are made:

§ 17.63 [Corrected]

On page 34415, in the third column, amend § 17.63(j)(4)(i)(K) by removing the comma immediately following the word “distribute”.

Approved:
Janet J. Coleman,
Chief, Office of Regulation Policy & Management, Office of the Secretary, Department of Veterans Affairs.

[FR Doc. 2017-16034 Filed 7-28-17; 8:45 am]

BILLING CODE 8320-01-P